FEDERAL ELECTION COMMISSION

Sunshine Act Meeting

AGENCY: Federal Election Commission

Date and Time: Tuesday, July 15, 2003 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

Date and Time: Thursday, July 17, 2003 at 10 a.m.

Place: 999 E Street, NW., Washington, DC. (Ninth Floor).

Status: This meeting will be open to the public.

Items to be Dicussed: Correction and Approval of Minutes.

Final Rules and Explanation and Justification on Public Financing of Presidential Candidates and National Nominating Conventions.

Draft Advisory Opinion 2003-12: Stop Taxpayer Money for Politicians Committee (“STMP”) and Representative Jeff Flake of Arizona by counsel, Benjamin L. Ginsberg. (Tentative)

Routine Administrative Matters.

FOR FURTHER INFORMATION CONTACT: Mr. Ron Harris, Press Officer, Telephone: (202) 694-1220.

Mary W. Dove,
Secretary of the Commission.

[FR Doc. 03-17655 Filed 7-8-03; 3:15 pm]

BILLING CODE 6715-01-M